DEPARTMENT OF THE INTERIOR

Fish and Wildlife Service

[Docket No. FWS-HQ-IA-2015-0157; FXIA16710900000-156-FF09A300000]

Draft Environmental Assessment; Dallas Zoo Management; Dallas, Texas

AGENCY: Fish and Wildlife Service, Interior.

ACTION: Notice of availability; request for public comments.

SUMMARY: We, the U.S. Fish and Wildlife Service, make available the draft environmental assessment under the National Environmental Policy Act regarding a permit application submitted by Dallas Zoo Management, on behalf of the Dallas Zoo, Sedgwick County Zoo, and Omaha's Henry Doorly Zoo. The three zoos are requesting authorization under the Convention on International Trade in Endangered Species of Wild Fauna and Flora to import 18 live African elephants from Swaziland.

DATES: To ensure consideration, written comments must be received or postmarked on or before November 23, 2015. Comments submitted electronically using the Federal eRulemaking Portal (see ADDRESSES) must be received by 11:59 p.m. Eastern Time on the closing date. Any comments that we receive after the closing date may not be considered.

ADDRESSES:

Availability of Documents

Internet: You may obtain copies of the draft environmental assessment and related documents by going to the Federal e-Rulemaking Portal: http://www.regulations.gov. In the Search box, enter FWS-HQ-IA-2015-0157, which is the docket number for this notice. Click the “Open Docket Folder” link.

In-Person: Copies of the draft environmental assessment are also available for public inspection and review at the following location, by appointment and written request only, 8 a.m. to 4:30 p.m.: U.S. Fish and Wildlife Service, Division of Management Authority, 5275 Leesburg Pike, Falls Church, VA 22041.

Comment submission: You may submit written comments on the draft environmental assessment by one of the following methods:

Internet: Go to the Federal e-Rulemaking Portal: http://www.regulations.gov. In the Search box, enter FWS-HQ-IA-2015-0157, which is the docket number for this notice. Click the “Open Docket Folder” link. Click the “Open Docket Folder” link. Click “Comment Now!” to comment.

U.S. mail or hand-delivery: Public Comments Processing, Attn: FWS-HQ-IA-2015-0157; Division of Policy, Performance, and Management Programs; U.S. Fish and Wildlife Service; 5275 Leesburg Pike, MS: BPHC; Falls Church, VA 22041-3803. We request that you send comments by only one of the methods described above. All information received will be posted on http://www.regulations.gov. This generally means that we will post any personal information you provide us (see the Public Availability of Comments section for more information).

FOR FURTHER INFORMATION CONTACT: Timothy Van Norman, Chief, Branch of Permits, Division of Management Authority, 5275 Leesburg Pike, MS-IA, Falls Church, VA 22041; or by phone at (703) 358-2350.

SUPPLEMENTARY INFORMATION: We make available the draft environmental assessment (EA) under the National Environmental Policy Act of 1969 (NEPA) (42 U.S.C. 4321 et seq.) for an application submitted by Dallas Zoo Management for a permit to import 18 live African elephants from Swaziland. If the importation is authorized, and the elephants are imported, the elephants will be housed at the Dallas Zoo, Dallas, Texas; Sedgwick County Zoo, Wichita, Kansas; and Omaha's Henry Doorly Zoo, Omaha, Nebraska. The requested permit, if granted, would authorize the importation, under the Convention on International Trade in Endangered Species of Wild Fauna and Flora (CITES) (27 U.S.T. 1087) of 3 adult females, 3 subadult males, and 12 subadult females. CITES is an international treaty designed to regulate international trade in certain animal and plant species that are affected by trade and are now, or potentially may become, threatened with extinction. These species are listed in the Appendices to CITES, which are available on the CITES Secretariat's Web site at http://www.cites.org. African elephants in Swaziland are listed in CITES Appendix I. The Service's regulations implementing CITES are found at 50 CFR part 23.

The African elephant is also classified as threatened under the U.S. Endangered Species Act (ESA) (16 U.S.C. 1531 et seq.), with a rule under Section 4(d) of the ESA 50 CFR 17.40(e). To import African elephants into the United States, ESA and CITES requirements must be met. Pursuant to the ESA 4(d) rule for the African elephant (50 CFR 17.40(e)(3)(i)), live elephants may be imported if all requirements under Service regulations at 50 CFR part 13 (general permitting) and 50 CFR part 23 (CITES) are met.

Issuance of a CITES import permit is categorically excluded under Department of the Interior internal agency policy and procedures from requiring completion of an EA under NEPA (Departmental Manual Part 516, Chapter 8.5(C)(1)). However, we have decided to prepare a draft EA in this case to help ensure that we have conducted a thorough review of all relevant factors and potential impacts on the quality of the human environment as envisioned under NEPA.

The draft EA considers the direct, indirect, and cumulative effects of the importation of 18 live elephants from Swaziland, including the measures that would be implemented to minimize and mitigate the impacts of the importation and housing of these animals.

Proposed Action

The proposed action is the issuance of a CITES permit by the Service for the importation of 18 African elephants from Swaziland. The elephants are currently housed in an enclosure at the Mkhaya Game Reserve, Swaziland. The elephants were removed from Mkhaya Game Reserve and Hlane National Park, Swaziland, due to overpopulation of elephants within the two protected areas and the negative impact the elephants were having on the vegetation and other wildlife species. Big Game Parks (BPG), the delegated authority responsible for implementation of Swaziland's Game Act of 1953, has determined that the number of elephants in the two protected areas must be reduced. Further, the reduction in the number of elephants within each of the protected areas will facilitate BGP's efforts to increase the population of black rhinoceros (Diceros bicornis), a critically endangered species, within the two protected areas.

Alternatives

We are also considering two alternatives to the proposed action:

1. No Action—No CITES import permit would be issued. According to the applicant and BGP, the 18 elephants will not be returned to the two protected areas. Instead, if importation is not authorized, BGP has stated that they have no option but to cull the animals.

2. Issue a CITES import permit for a reduced number of elephants—This alternative is similar to the Proposed Action, in that the Service would issue an import permit, but the number of elephants authorized for import would be reduced. This could result in some elephants being imported into the United States and housed at one or more of the three zoos. However, according to the applicant and BGP, the elephants that are not imported into the United States would be culled.

Public Availability of Comments

Written comments that we receive become part of the public record associated with this action. Before including your address, phone number, email address, or other personal identifying information in your comment, you should be aware that your entire comment—including your personal identifying information—may be made publicly available at any time. While you may request in your comment that we withhold your personal identifying information from public review, we cannot guarantee that we will be able to do so. We will not consider anonymous comments. All submissions from organizations or businesses, and from individuals identifying themselves as representatives or officials of organizations or businesses, will be made available for public disclosure in their entirety.

Authority

We provide this notice under NEPA and its implementing regulations (40 CFR 1506.6).

Brenda Tapia,
Program Analyst/Data Administrator, Branch of Permits, Division of Management Authority.

[FR Doc. 2015-26834 Filed 10-21-15; 8:45 am]

BILLING CODE 4333-15-P